DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Institute of Allergy and Infectious Diseases Special Emphasis Panel.

Date: February 25, 2002.

Time: 8:30 am to 12 pm.

Agenda: To review and evaluate contract proposals.

Place: 6700-B Rockledge Drive, Room 2220, Bethesda, MD 20892, (Telephone Conference Call).

Contact Person: Vassil S. Georgiev, PhD, Scientific Review Administrator, Scientific Review Program, Division of Extramural Activities, NIAID, NIH Room 2217, 6700-B Rockledge Drive, MSC-7610, Bethesda, MD 20892-7610, 301-496-2550.

Name of Committee: National Institute of Allergy and Infectious Diseases Special Emphasis Panel.

Date: February 25, 2002.

Time: 1 pm to 5 pm.

Agenda: To review and evaluate contract proposals.

Place: 6700-B Rockledge Drive, Room 2223, Bethesda, MD 20892, (Telephone Conference Call).

Contact Person: Vassil S. Georgiev, PhD, Scientific Review Administrator, Scientific Review Program, Division of Extramural Activities, NIAID, NIH, Room 2217, 6700-B Rockledge Drice, MSC-7610, Bethesda, MD 20892-7610, 301-496-2550.

Name of Committee: National Institute of Allergy and Infectious Diseases Special Emphasis Panel.

Date: February 26, 2002.

Time: 8:30 am to 12 pm.

Agenda: To review and evaluate contract proposals.

Place: 6700-B Rockledge Drive, Room 2223, Bethesda, MD 20892, (Telephone Conference Call).

Contact Person: Vassil S. Georgiev, PhD, Scientific Review Administrator, Scientific Review Program, Division of Extramural Activities, NIAID, NIH, Room 2217, 6700-B Rockledge Drive, MSC-7610, Bethesda, MD 20892-7610, 310-496-2550.

Name of Committee: National Institute of Allergy and Infectious Diseases Special Emphasis Panel.

Date: February 27, 2002.

Time: 1 pm to 5 pm.

Agenda: To review and evaluate contract proposals.

Place: Holiday Inn—Gaithersburg, 2 Montgomery Village Avenue, Gaithersburg, MD 20879, (Telephone Conference Call).

Contact Person: Vassil S. Georgiev, PhD, Scientific Review Administrator, Scientific Review Program, Division of Extramural Activities, NIAID, NIH, Room 2217, 6700-B Rockledge Drive, MSC-7610, Bethesda, MD 20892-7610, 310-496-2550.

(Catalogue of Federal Domestic Assistance Program Nos. 93.855, Allergy, Immunology, and Transplantation Research; 93.856, Microbiology and Infectious Diseases Research, National Institutes of Health, HHS)

Dated: December 21, 2001.
LaVerne Stringfield,
Director, Office of Federal Advisory Committee Policy.

[FR Doc. 02-13 Filed 1-2-02; 8:45 am]

BILLING CODE 4140-01-M